DEPARTMENT OF TRANSPORTATION

Federal Aviation Administration

June 6, 2019 Drone Advisory Committee (DAC) Meeting

AGENCY: Federal Aviation Administration (FAA), U.S. Department of Transportation (DOT).

ACTION: Announcement of meeting.

SUMMARY: The FAA is issuing this notice to announce the June 6, 2019 DAC Meeting to the public.

DATES: The meeting will be held on June 6, 2019, 9:00 a.m.-4:00 p.m. Eastern Time.

ADDRESSES: The meeting will be held at the Hyatt Regency Crystal City (Regency E, Ballroom Level), 2799 Jefferson Davis Highway, Arlington, Virginia 22202.

FOR FURTHER INFORMATION CONTACT: For questions about the DAC, please visit https://www.faa.gov/uas/programs_partnerships/dac/ or contact Erik Amend, Manager, Executive Office, UAS Integration Office, at erik.amend@faa.gov or 202-267-8282.

SUPPLEMENTARY INFORMATION: Pursuant to section 10(a) (2) of the Federal Advisory Committee Act (Pub. L. 92-463, 5 U.S.C., App.), notice is hereby given of the June 6, 2019 DAC Meeting. The DAC is a Federal Advisory Committee managed by the FAA. The agenda will likely include, but may not be limited to, the following:

• Official Statement of the Designated Federal Officer

• Approval of the Agenda and Minutes

• Opening Remarks

• FAA Update

• Update on Counter-UAS Technology Trends

• The FAA's Plan to Address the FAA Reauthorization Act of 2018

• Discussion on Knowledge Test for Recreational Drone Operators

• Industry-Led Technical Topics

• New Business/Agenda Topics

• Closing Remarks

• Adjourn

The agenda will be available through the Federal Register, the FAA's Notices of Public Meetings web page (https://www.faa.gov/regulations_policies/rulemaking/npm/), and the FAA's DAC web page (https://www.faa.gov/uas/programs_partnerships/dac/).

Attendance is open to the interested public but limited to space available. Registration is required for this meeting; members of the public may register at DACmeetingRSVP@faa.gov until May 31, 2019.

Members of the public may present a written statement to the committee at any time. The FAA is not accepting oral presentations at this meeting due to time constraints.

If you are in need of assistance or require a reasonable accommodation for this meeting, please contact the person listed under the heading FOR FURTHER INFORMATION CONTACT. Sign and oral interpretation, as well as a listening device, can be made available if requested 10 calendar days before the meeting.

Issued in Washington, DC, on May 15, 2019.
Erik W. Amend,
Manager, Executive Office, AUS-10, FAA UAS Integration Office.

[FR Doc. 2019-10591 Filed 5-20-19; 8:45 am]

BILLING CODE 4910-13-P